DEPARTMENT OF JUSTICE

Notice of Lodging of Consent Decree Under The Clean Water Act

Notice is hereby given that on August 10, 2010, a proposed Consent Decree in United States v. Plains All American Pipeline, L.P., et al., (Civil No. 4:10-cv-2833), was lodged with the United States District Court for the Southern District of Texas.

In this action, the United States alleges civil claims under the Clean Water Act (“CWA”), 33 U.S.C. 1251 et seq., against Plains All American Pipeline, L.P. and several of its operating subsidiaries (collectively referred to as “Plains”) for ten unauthorized discharges of crude oil into navigable waters of the United States or adjoining shorelines in the states of Texas, Oklahoma, Louisiana, and Kansas. These discharges occurred between June 2004 and September 2007. The United States sought civil penalties under 33 U.S.C. 1321(b)(7)(A) and injunctive relief under 33 U.S.C. 1319(b) against Plains.

Under the proposed Consent Decree, Plains will perform injunctive relief on approximately 10,000 miles of crude oil pipeline to: (1) Prevent and mitigate the effects of pipeline corrosion, (2) improve pipeline operation and integrity management practices, and (3) enhance leak detection capabilities and practices. The Consent Decree also mandates design-capacity and secondary containment requirements for certain breakout tanks.

Plains will also pay a civil penalty to the United States in the amount of $3,250,000.

The Department of Justice will receive comments relating to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. Plains All American Pipeline, L.P., et al., Civil Action No. 4:10-cv-2833 (S.D. Tex.), and D.J. Ref. 90-5-1-1-08698.

The Consent Decree may be examined at the Office of the United States Attorney, Southern District of Texas, 919 Milam, Suite 1500, Houston, TX 77208, at U.S. EPA Region 7, 901 N. 5th Street, Kansas City, KS 66101, and at U.S. EPA Region 6, 1445 Ross Avenue, Dallas, Texas 75202. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy by mail, from the Consent Decree Library, please enclose a check in the amount of $12.50 (25 cents per page reproduction cost) for the Consent Decree payable to the U.S. Treasury.

Maureen L. Katz,
Assistant Chief, Environmental Enforcement Section, Environment and Natural Resources Division.

[FR Doc. 2010-20116 Filed 8-13-10; 8:45 am]

BILLING CODE 4410-15-P